DEPARTMENT OF ENERGY

Environmental Management Site-Specific Advisory Board Chairs

AGENCY: Office of Environmental Management, Department of Energy.

ACTION: Notice of open meeting.

SUMMARY: This notice announces a meeting of the Environmental Management Site-Specific Advisory Board (EM SSAB) Chairs. The Federal Advisory Committee Act requires that public notice of this meeting be announced in the Federal Register.

DATES: Wednesday, May 1, 2024; 8 a.m.-5 p.m. EDT. Thursday. May 2, 2024; 8 a.m.-12:15 p.m. EDT.

ADDRESSES: Christopher Conference Center, 20 North Plaza Boulevard, Chillicothe, OH 45601.

FOR FURTHER INFORMATION CONTACT: Kelly Snyder, EM SSAB Designated Federal Officer, 702-918-6715 or by email at kelly.snyder@em.doe.gov or visit https://energy.gov/em/listings/chairs-meetings.

SUPPLEMENTARY INFORMATION:

Purpose of the Board: The purpose of the Board is to make recommendations to the Department of Energy Environmental Management Program in the areas of environmental restoration, waste management, and related activities.

Tentative Agenda Topics

Wednesday, May 1, 2024

• Program Updates

• Chairs Round Robin

• Public Comment

• Board Business/Open Discussion

Thursday, May 2, 2024

• Public Comment

• Board Business/Open Discussion

Public Participation: This meeting will be open to the public and public comments will be accepted. Public comments can be submitted from those unable to attend. Comments received in writing no later than 5:00 p.m. EDT on Monday, April 29, 2024, will be read aloud during the meeting. Please send comments to Kelly Snyder at kelly.snyder@em.doe.gov. The Designated Federal Officer is empowered to conduct the meeting in a fashion that will facilitate the orderly conduct of business.

Minutes: Minutes will also be available at the following website: https://energy.gov/em/listings/chairs-meetings.

Signing Authority: This document of the Department of Energy was signed on March 29, 2024, by David Borak, Deputy Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 2, 2024.
Treena V. Garrett,
Federal Register Liaison Officer, U.S. Department of Energy.

[FR Doc. 2024-07247 Filed 4-4-24; 8:45 am]

BILLING CODE 6450-01-P